NATIONAL ARCHIVES AND RECORDS ADMINISTRATION

[NARA-2017-036]

Agency Information Collection Activities: Proposed Collection; Comment Request

AGENCY: National Archives and Records Administration (NARA).

ACTION: Notice of proposed extension request.

SUMMARY: NARA proposes to request an extension from the Office of Management and Budget (OMB) of approval to use the following three information collections. We use the first information collection form to advise requesters of (1) the procedures they should follow to request certified copies of records for use in civil litigation or criminal actions in courts of law, and (2) the information they need to provide us so that we can identify the correct records. Veterans, military dependents, and other authorized people use the second information collection form to request information from, or copies of, documents in military personnel, military medical, and dependent medical records. Genealogical researchers use the National Archives Trust Fund (NATF) forms contained in the third information collection to order records for genealogical research. We invite you to comment on these three proposed information collections pursuant to the Paperwork Reduction Act of 1995.

DATES: We must receive written comments on or before June 6, 2017.

ADDRESSES: Send comments to Paperwork Reduction Act Comments (ID), Room 4400, National Archives and Records Administration, 8601 Adelphi Road, College Park, MD 20740-6001, fax them to 301-713-7409, or email them to tamee.fechhelm@nara.gov.

FOR FURTHER INFORMATION CONTACT: Contact Tamee Fechhelm by telephone at 301-837-1694 or fax at 301-713-7409 with requests for additional information or copies of the proposed information collection forms and supporting statements.

SUPPLEMENTARY INFORMATION: Pursuant to the Paperwork Reduction Act of 1995 (Pub. L. 104-13), NARA invites the public and other Federal agencies to comment on proposed information collections. The comments and suggestions should address one or more of the following points: (a) Whether the proposed information collections are necessary for NARA to properly perform its functions; (b) NARA's estimate of the burden of the proposed information collections and its accuracy; (c) ways NARA could enhance the quality, utility, and clarity of the information it collects; (d) ways NARA could minimize the burden on respondents of collecting the information, including through information technology; and (e) whether these collections affect small businesses. We will summarize any comments you submit and include the summary in our request for OMB approval. All comments will become a matter of public record. In this notice, we solicit comments concerning the following three information collections:

1. Title: Court Order Requirements.

OMB number: 3095-0038.

Agency form number: NA Form 13027.

Type of review: Regular.

Affected public: Military service members, their dependents, veterans, former Federal civilian employees, authorized representatives, state and local governments, and businesses.

Estimated number of annual respondents: 5,000.

Estimated time per response: 15 minutes.

Frequency of response: On occasion (when respondent needs to request information for use in litigation or an action in a court of law).

Estimated total annual burden hours: 1,250 hours.

Abstract: The information collection is prescribed by 36 CFR 1228.164. In accordance with rules issued by the Office of Personnel Management, NARA's National Personnel Records Center (NPRC) administers former Federal civilian employee Official Personnel Folders (OPF) and Employee Medical Folders (EMF). In accordance with rules issued by the Department of Defense and the Department of Transportation (U.S. Coast Guard), NPRC also administers military service records of veterans after discharge, retirement, and death, and the medical records of these veterans, current members of the Armed Forces, and their dependents. We use the NA Form 13027, Court Order Requirements, to advise requesters of (1) the procedures they should follow to request certified copies of records for use in civil litigation or criminal actions in courts of law, and (2) the information they need to provide us so that we can identify the correct records.

2. Title: Forms Relating to Military Service Records.

OMB number: 3095-0039.

Agency form number: NA Forms 13036, 13042, 13055, 13075, and 13177.

Type of review: Regular.

Affected public: Veterans, military dependents, their authorized representatives, state and local governments, and businesses.

Estimated number of respondents: 132,500.

Estimated time per response: 5 minutes.

Frequency of response: On occasion (when respondent wishes to request information from a military personnel, military medical, or dependent medical record).

Estimated total annual burden hours: 11,042 hours.

Abstract: The information collection is prescribed by 36 CFR 1228.164. In accordance with rules issued by the Department of Defense and the Department of Transportation (U.S. Coast Guard), NARA's National Personnel Records Center (NPRC) administers military personnel and medical records of veterans after discharge, retirement, and death. In addition, NRPC administers the medical records of dependents of service personnel. When veterans, dependents, and other authorized individuals request information from, or copies of, documents in military personnel, military medical, and dependent medical records, they must provide on forms or in letters certain information about the veteran and the nature of the request so that we may find the correct records, protect the privacy of the person in the records from unauthorized access, and reconstruct information if needed. We ask requesters who seek medical records of dependents of service personnel and hospitalization records of military personnel to complete NA Form 13042, Request for Information Needed to Locate Medical Records, so that NPRC staff can locate the desired records. Certain types of information contained in military personnel and medical records are restricted from disclosure unless the veteran provides a more specific release authorization than is normally required for other records. In such cases, we ask veterans to complete NA Form 13036, Authorization for Release of Military Medical Patient Records, to authorize release to a third party of a restricted type of information found in the desired record. A major fire at the NPRC on July 12, 1973, destroyed numerous military records. If a person's request involves records or information from records that may have been lost in the fire, we may ask them to complete NA Form 13075, Questionnaire about Military Service, or NA Form 13055, Request for Information Needed to Reconstruct Medical Data, so that NPRC staff can search alternative sources to reconstruct the requested information. Requesters may check the status of a request for clinical or medical treatment records through the online NA Form 13177, Check the Status of a Clinical & Medical & Treatment Records Request. We use the information entered here to identify and track the requests and provide status updates.

3. Title: Order Forms for Genealogical Research in the National Archives.

OMB number: 3095-0027.

Agency form numbers: NATF Forms 84, 85, and 86.

Type of review: Regular.

Affected public: Individuals or households.

Estimated number of respondents: 10,318.

Estimated time per response: 10 minutes.

Frequency of response: On occasion.

Estimated total annual burden hours: 1,720.

Abstract: We use these Nation Archives Trust Fund (NATF) forms to process requests for certain types of genealogical research documents. We need to handle requests for these types of records by order due to the volume of requests we receive for them; otherwise, we would not be able to handle them in a timely way. The forms also allow us to collect specific information from the researcher that we need to search for the records they want. The forms are: NATF 84, National Archives Order for Copies of Land Entry Files; NATF 85, National Archives Order for Copies of Pension or Bounty Land Warrant Applications; and NATF 86, National Archives Order for Copies of Military Service Records. As a convenience, the paper forms allow researchers to provide credit card information to authorize billing and expedited mailing of the copies. Researchers can instead use Order Online! (http://www.archives.gov/research_room/obtain_copies/military_and_genealogy_order_forms.html) to complete the forms and order the copies.

Swarnali Haldar,
Executive for Information Services/CIO.

[FR Doc. 2017-06912 Filed 4-6-17; 8:45 am]

BILLING CODE 7515-01-P